DEPARTMENT OF ENERGY

Federal Energy Regulatory Commission

Combined Notice of Filings #1

Take notice that the Commission received the following electric rate filings:

Docket Numbers: ER10-3099-003; ER10-3300-002; ER12-1260-002; ER12-1436-003.

Applicants: La Paloma Generating Company, LLC, Stephentown Spindle, LLC, Eagle Point Power Generation LLC, RC Cape May Holdings, LLC.

Description: Notice of Change in Status of RC Cape May Holdings, LLC, et al.

Filed Date: 6/8/12.

Accession Number: 20120608-5066.

Comments Due: 5 p.m. ET 6/29/12.

Docket Numbers: ER11-4525-002; ER11-4524-001.

Applicants: Middletown Coke Company, LLC, Haverhill North Coke Company.

Description: Notice of Change in Status of Middletown Coke Company, LLC, et al.

Filed Date: 6/8/12.

Accession Number: 20120608-5082.

Comments Due: 5 p.m. ET 6/29/12.

Docket Numbers: ER12-1769-002.

Applicants: Viridian Energy NG, LLC.

Description: Market-Based Rate Tariff to be effective 7/1/2012.

Filed Date: 6/7/12.

Accession Number: 20120607-5111.

Comments Due: 5 p.m. ET 6/28/12.

Docket Numbers: ER12-1926-000.

Applicants: Independence Electricity.

Description: Amendment to Application of Independence Electricity for Market-Based Rate Authority.

Filed Date: 6/8/12.

Accession Number: 20120608-5024.

Comments Due: 5 p.m. ET 6/29/12.

Docket Numbers: ER12-1976-000.

Applicants: PJM Interconnection, L.L.C., American Electric Power Service Corporation.

Description: AEPSC submits 32nd Revised SA No. 1336 among AEPSC & Buckeye to be effective 4/17/2012.

Filed Date: 6/7/12.

Accession Number: 20120607-5123.

Comments Due: 5 p.m. ET 6/28/12.

Docket Numbers: ER12-1977-000.

Applicants: PJM Interconnection, L.L.C.

Description: Ministerial Filing to incorporate approved language effective June 1, 2012 to be effective 6/1/2012.

Filed Date: 6/8/12.

Accession Number: 20120608-5062.

Comments Due: 5 p.m. ET 6/29/12.

Docket Numbers: ER12-1978-000.

Applicants: Tampa Electric Company.

Description: Section 205 Requirements Depreciation Accrual Rates Filing to be effective 1/1/2012.

Filed Date: 6/8/12.

Accession Number: 20120608-5104.

Comments Due: 5 p.m. ET 6/29/12.

Docket Numbers: ER12-1979-000.

Applicants: PBF Power Marketing LLC.

Description: Revised Change in Status Filing to be effective 8/7/2012.

Filed Date: 6/8/12.

Accession Number: 20120608-5109.

Comments Due: 5 p.m. ET 6/29/12.

Docket Numbers: ER12-1980-000.

Applicants: Delaware City Refining Company LLC.

Description: Revised Change in Status Filing to be effective 8/7/2012.

Filed Date: 6/8/12.

Accession Number: 20120608-5110.

Comments Due: 5 p.m. ET 6/29/12.

Docket Numbers: ER12-1981-000.

Applicants: Pacific Gas and Electric Company.

Description: E&P Agreement for SunEdison's FRV Regulus Solar Interconnection Project to be effective 6/11/2012.

Filed Date: 6/8/12.

Accession Number: 20120608-5116.

Comments Due: 5 p.m. ET 6/29/12.

Docket Numbers: ER12-1982-000.

Applicants: SPS Alpaugh 50 LLC.

Description: Application for Market-Based Rate Authority to be effective 8/7/2012.

Filed Date: 6/8/12.

Accession Number: 20120608-5117.

Comments Due: 5 p.m. ET 6/29/12.

Docket Numbers: ER12-1983-000.

Applicants: Southwestern Electric Power Company.

Description: PBOP and PEB costs for formula rates of Southwestern Electric Power Company.

Filed Date: 6/8/12.

Accession Number: 20120608-5118.

Comments Due: 5 p.m. ET 6/29/12.

Docket Numbers: ER12-1984-000.

Applicants: SPS Alpaugh North LLC.

Description: Application for Market-Based Rate Authority to be effective 8/7/2012.

Filed Date: 6/8/12.

Accession Number: 20120608-5119.

Comments Due: 5 p.m. ET 6/29/12.

Docket Numbers: ER12-1985-000.

Applicants: Southwestern Electric Power Company.

Description: Accounting updates re CWIP expenditures and projection of Southwestern Electric Power Company.

Filed Date: 6/8/12.

Accession Number: 20120608-5120.

Comments Due: 5 p.m. ET 6/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2012.
Nathaniel J. Davis, Sr.,
Deputy Secretary.

[FR Doc. 2012-15140 Filed 6-20-12; 8:45 am]

BILLING CODE 6717-01-P